DEPARTMENT OF HEALTH AND HUMAN SERVICES

National Institutes of Health

National Cancer Institute; Amended Notice of Meeting

Notice is hereby given of a change in the meeting of the National Cancer Advisory Board and NCI Board of Scientific Advisors, June 11, 2024, 06:00 p.m. to June 13, 2024, 12:00 p.m., National Cancer Institute Shady Grove, 9609 Medical Center Drive, Room TE406 & 408, Bethesda, MD 20892 (In Person and Virtual Meeting) which was published in the Federal Register on May 8, 2024, FR Doc 2024-10060, 89 FR 38910.

This meeting notice is being amended to change the meeting time of the National Cancer Advisory Board (NCAB) Subcommittee Meetings; the date and time of the open session of the NCAB and NCI Board of Scientific Advisors (BSA) Meeting; and the time of the closed session of the NCAB. The NCAB Subcommittee Meetings on June 11, 2024 will now be held from 5:30 p.m. to 9:00 p.m. instead of from 6:00 p.m. to 9:00 p.m. The open session of the NCAB and BSA will now be held on June 12, 2024 from 8:30 a.m. to 3:40 p.m. instead of on June 12-13, 2024 from 9:00 a.m. to 12:00 p.m. The closed session of the NCAB on June 12, 2024 will now be held from 3:55 p.m. to 5:30 p.m. instead of from 3:50 p.m. to 5:00 p.m. The open session of the NCAB and BSA can be accessed from the NIH Videocast at the following link: https://videocast.nih.gov/. The meeting is partially closed to the public.

Dated: May 30, 2024.
David W. Freeman,
Supervisory Program Analyst, Office of Federal Advisory Committee Policy.

[FR Doc. 2024-12267 Filed 6-4-24; 8:45 am]

BILLING CODE 4140-01-P